FEDERAL COMMUNICATIONS COMMISSION

47 CFR Part 54

[WC Docket Nos. 10-90 and 05-337; Report No. 2976]

Petition for Reconsideration of Action in Rulemaking Proceeding

AGENCY: Federal Communications Commission.

ACTION: Petition for reconsideration.

SUMMARY: In this document, a Petition for Reconsideration (Petition) has been filed in the Commission's Rulemaking proceeding filed by Derrick Owens, Jerry Weikle, Gerald J. Duffy, and Richard A. Askoff on behalf of the Western Telecommunications Alliance, the Eastern Rural Telecom Association, and the National Exchange Carrier Association, Inc.

DATES: Oppositions to the Petition must be filed on or before June 3, 2013. Replies to an opposition must be filed on or before June 11, 2013.

ADDRESSES: Federal Communications Commission, 445 12th Street SW., Washington, DC 20554.

FOR FURTHER INFORMATION CONTACT: Heidi Lankau, Wireline Competition Bureau, (202) 418-2876 or TTY: (202) 418-0484.

SUPPLEMENTARY INFORMATION: This is a summary of Commission's document, Report No. 2976, released May 3, 2013, The full text of Report No. 2976 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Connect America Fund; High-Cost Universal Service Support, published at 78 FR 16808, March 19, 2013 in WC Docket Nos. 10-90, 05-337,and published pursuant to 47 CFR 1.429(e). See also 1.4(b)(1) of the Commission's rules.

Number of Petitions Filed: 1

Federal Communications Commission.
Gloria J. Miles,
Federal Register Liaison, Office of the Secretary, Office of Managing Director.

[FR Doc. 2013-11798 Filed 5-16-13; 8:45 am]

BILLING CODE 6712-01-P